DEPARTMENT OF LABOR

Employment and Training Administration

[TA-W-74,292; TA-W-74,292A]

Precision Dynamics Corporation San Fernando, CA; Precision Dynamics Corporation, Also Known as the St. John Companies, Valencia, CA; Amended Certification Regarding Eligibility To Apply for Worker Adjustment Assistance

In accordance with Section 223 of the Trade Act of 1974, as amended (“Act”), 19 U.S.C. 2273, the Department of Labor issued a Certification of Eligibility to Apply for Worker Adjustment Assistance on January 28, 2011, applicable to workers of Precision Dynamics Corporation, San Fernando, California. The workers are engaged in activities related to production of identification wristbands and labels. The notice was published in the Federal Register on August 23, 2010 (75 FR 51848).

At the request of the company, the Department reviewed the certification for workers of the subject firm.

The Valencia, California location of Precision Dynamics Corporation, also known as The St. John Companies, operated in conjunction with the San Fernando, California location of Precision Dynamics Corporation. Both locations produce identification wristbands and labels and worker separations at both locations are attributable to a shift in production to Mexico by the workers' firm.

Accordingly, the Department is amending this certification to include workers of the Valencia, California location of Precision Dynamics Corporation.

The amended notice applicable to TA-W-74,292 is hereby issued as follows:

All workers of Precision Dynamics Corporation, San Fernando, California (TA-W-74,292), and Precision Dynamics Corporation, also known as The St. John Companies, Valencia, California (TA-W-74,292A), who became totally or partially separated from employment on or after June 14, 2009, through August 2, 2012, and all workers in the group threatened with total or partial separation from employment on the date of certification through August 2, 2012, are eligible to apply for adjustment assistance under Chapter 2 of Title II of the Trade Act of 1974, as amended.

Signed in Washington, DC this 26th day of May, 2011.
Michael W. Jaffe,
Certifying Officer, Office of Trade Adjustment Assistance.

[FR Doc. 2011-14820 Filed 6-14-11; 8:45 am]

BILLING CODE 4510-FN-P